DEPARTMENT OF LABOR

Employment and Training Administration

Comment Request for Information Collection for the Workforce Investment Act Streamlined Performance Reporting (WISPR) Data Collection System; Extension With Revisions

AGENCY: Employment and Training Administration, Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration (ETA) is soliciting comments concerning the WISPR system. The current expiration date is October 31, 2011. A copy of the proposed information collection request can be obtained by contacting the office listed below in the addresses section of this notice.

DATES: Written comments must be submitted to the office listed in the addresses section below on or before November 1, 2011.

ADDRESSES: Submit written comments to the U.S. Department of Labor, Employment and Training Administration, Office of Policy Development and Research, 200 Constitution Avenue NW., Room N-5641, Washington, DC 20210, Attention: Karen A. Staha. Telephone number: (202) 693-2917 (this is not a toll-free number). Fax: (202)693-2766. E-mail: Staha.Karen@dol.gov.

SUPPLEMENTARY INFORMATION:

I. Background

In July 2004, ETA solicited comments from the general public on the establishment of a single, streamlined reporting and recordkeeping system, formally called the ETA Management Information and Longitudinal Evaluation (EMILE) reporting system. The notice of 60-day public comment on the proposed EMILE reporting system was published in the Federal Register on July 16, 2004 (69 FR 42777). The proposed EMILE reporting system was designed to streamline 12 ETA program reporting systems into one comprehensive reporting structure that would allow for consistent, comparable analysis across ETA funded employment and training programs, using the definitions for a set of common performance measures initially specified in Training and Employment Guidance Letter (TEGL) 15-03, Common Measures Policy, and subsequently revised by TEGL 17-05, (note TEGLs 17-05 change 1, and 17-05 Change 2 provide additional revisions), Common Measures Policy for the Employment and Training Administration's (ETA) Performance Accountability System and Related Performance Issues.

ETA received comments from 161 unique entities, including State workforce agencies and boards, local workforce investment areas, non-profit organizations and national associations, Native American and other Tribal organizations, public interest and advocacy groups, and other private citizens and stakeholders. Due to the large volume of comments submitted by each entity, ETA worked during calendar year 2005 to organize and analyze the public comments, make appropriate revisions to agency policy guidance on the common measures, and assess the feasibility of implementing the proposed EMILE reporting requirements in several States.

ETA reconciled the public comments and made appropriate revisions to the original EMILE proposal, which was re-named the WISPR System. This system replaced the existing quarterly reporting requirements for the following seven ETA activities: Wagner-Peyser Act, Jobs for Veterans' State Grants, the Workforce Investment Act (WIA) Adult, WIA Dislocated Worker, WIA Youth, Trade Adjustment Assistance Act programs, and National Emergency Grants.

The WISPR system was piloted in two States (Pennsylvania and Texas) and both States have successfully implemented WISPR. At its foundation, the WISPR system organizes customer information, which is maintained by States in order to run their day-to-day operations. It includes the minimum level of information collection necessary to comply with Equal Opportunity requirements, hold States and grantees appropriately accountable for the Federal funds they receive, and allow the Department to fulfill its oversight and management responsibilities.

The WISPR system features a set of aggregate quarterly reports for capturing services to employer and job seeker customers, including a special aggregate report on services to the nation's eligible veterans and transitioning service members. A standardized set of participant data that includes information on demographics, types of services received, and performance outcomes based on a set of common measures defined consistently across programs is a key component of this reporting system. The WISPR system also incorporates provisions to ensure the integrity of reported data and resolve data collection and reliability issues raised by the Office of the Inspector General and the Government Accountability Office regarding the Department's ability to accurately evaluate program performance.

The implementation of WISPR was put on hold in March 2009 as ETA focused its available resources on implementing the American Recovery and Reinvestment Act. The current request for information seeks to obtain comments regarding the extension of the current WISPR system. To date, the system has been fully implemented in Pennsylvania and Texas but could potentially be implemented in additional States.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with changes.

Title: Workforce Investment Act Streamlined Performance Reporting (WISPR) data collection system.

OMB Number: 1205-0469.

Affected Public: State, local and Tribal government entities and private non-profit organizations.

Form(s): ETA-9131, ETA-9132, ETA 9133, WISRD Record Layout, WISPR Data Preparation and Reporting Handbook 2011.

Total Annual Respondents: 254.

Annual Frequency: Quarterly.

Total Annual Responses: 864 (4 responses for each of the 54 States/territories on a quarterly basis)

Average Time per Response: 1,120 hours.

Estimated Total Annual Burden Hours: 968,438.

Total Annual Burden Cost for Respondents: $0.

Comments submitted in response to this comment request will be summarized and/or included in the request for Office of Management and Budget approval of the information collection request; they will also become a matter of public record.

Dated: August 29, 2011.
Jane Oates,
Assistant Secretary for Employment and Training.

[FR Doc. 2011-22577 Filed 9-1-11; 8:45 am]

BILLING CODE 4510-FN-P